DEPARTMENT OF TRANSPORTATION

Federal Aviation Administration

14 CFR Part 39

[Docket No. FAA-2019-0527; Product Identifier 2019-NM-112-AD; Amendment 39-19684; AD 2019-14-06]

RIN 2120-AA64

Airworthiness Directives; Airbus SAS Airplanes

AGENCY: Federal Aviation Administration (FAA), DOT.

ACTION: Final rule; request for comments.

SUMMARY: The FAA is adopting a new airworthiness directive (AD) for certain Airbus SAS Model A319-111, -112, -115, and -131 airplanes, and Model A320-214 and -232 airplanes. This AD was prompted by a report of the fracture of a main landing gear (MLG) sliding tube axle, and an investigation that determined the cause to be an incorrect repair. This AD requires a repetitive magnetic particle inspection (MPI) of affected MLG sliding tubes for discrepancies; a one-time Barkhausen noise inspection (BNI) or alternative non-destructive test (NDT) inspection, and a detailed visual inspection of affected MLG sliding tube axles for discrepancies; and corrective actions if necessary, as specified in a European Union Aviation Safety Agency (EASA) AD, which is incorporated by reference. Accomplishing the BNI and applicable corrective actions, or replacing the affected parts, constitutes terminating action for the repetitive MPI. The FAA is issuing this AD to address the unsafe condition on these products.

DATES: This AD becomes effective August 23, 2019.

The Director of the Federal Register approved the incorporation by reference of a certain publication listed in this AD as of August 23, 2019.

We must receive comments on this AD by September 23, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0527.

Examining the AD Docket

You may examine the AD docket on the internet at http://www.regulations.gov by searching for and locating Docket No. FAA-2019-0527; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The EASA, which is the Technical Agent for the Member States of the European Union, has issued EASA Emergency AD 2019-0151-E, dated June 28, 2019 (“EASA Emergency AD 2019-0151-E”) (also referred to as the Mandatory Continuing Airworthiness Information, or “the MCAI”), to correct an unsafe condition for certain Airbus SAS Model A319-111, -112, -115, and -131 airplanes, and Model A320-214 and -232 airplanes. The MCAI states:

An occurrence was reported where, during pushback of an aeroplane, a MLG sliding tube axle fractured. Investigation results revealed an incorrect accomplishment of a repair at the previous overhaul of the chromium plated axle diameters, which resulted in the overheat damage to the sliding tube axle journal(s). This initiated a crack which, under fatigue effects, led to fracture of the MLG sliding tube axle. A limited number of MLG sliding tubes has been identified that may have been subject to the same incorrect repair.

This condition, if not detected, could lead to MLG sliding tube axle fracture, possibly resulting in MLG collapse, damage to the aeroplane, and injury to occupants.

To address this potential unsafe condition, SAFRAN Landing Systems issued the SB [service bulletin] (later revised), providing the list of affected parts and inspection instructions. Consequently, EASA issued AD 2019-0147 to require a one-time inspection of affected parts and, depending on findings, accomplishment of applicable corrective action(s).

Since that [EASA] AD was issued, after chrome removal on one affected part, a crack was found on the inner chromed land area. Airbus issued the AOT [Alert Operators Transmission] to provide instructions for repetitive magnetic particle inspections (MPI), pending accomplishment of the SB. In addition, further investigation identified that a limited number of MLG sliding tubes were incorrectly repaired, thereby reducing the number of affected aeroplanes.

For the reasons described above, this [EASA Emergency] AD retains part of the requirements of EASA AD 2019-0147, which is superseded, amends the Applicability, and requires additional repetitive inspections, and, depending on findings, accomplishment of applicable corrective action(s).

Related IBR Material Under 1 CFR Part 51

EASA Emergency AD 2019-0151-E describes procedures for a repetitive MPI of affected MLG sliding tubes for discrepancies (e.g., cracks or damage), a one-time BNI of affected MLG sliding tube axles for discrepancies (e.g., cracks or damage), and corrective actions, i.e., repair, if necessary. Corrective actions include repair or replacement of affected parts. EASA Emergency AD 2019-0151-E also describes an optional method of compliance for accomplishing corrective actions by replacing affected parts with serviceable parts, and terminating actions for the repetitive MPI, which consist of accomplishing the BNI and applicable corrective actions, or replacing the affected parts.

This material is reasonably available because the interested parties have access to it through their normal course of business or by the means identified in the ADDRESSES section.

FAA's Determination

This product has been approved by the aviation authority of another country, and is approved for operation in the United States. Pursuant to a bilateral agreement with the State of Design Authority, the FAA has been notified of the unsafe condition described in the MCAI referenced above. The FAA is issuing this AD because the agency evaluated all pertinent information and determined the unsafe condition exists and is likely to exist or develop on other products of the same type design.

Requirements of This AD

This AD requires accomplishing the actions specified in EASA Emergency AD 2019-0151-E described previously, as incorporated by reference, except for any differences identified as exceptions in the regulatory text of this AD. This AD also requires sending the inspection results to Safran Landing Systems.

Explanation of Required Compliance Information

In the FAA's ongoing efforts to improve the efficiency of the AD process, the FAA worked with Airbus and EASA to develop a process to use certain EASA ADs as the primary source of information for compliance with requirements for corresponding FAA ADs. As a result, EASA Emergency AD 2019-0151-E is incorporated by reference in the FAA final rule. This AD, therefore, requires compliance with the provisions specified in EASA Emergency AD 2019-0151-E, except for any differences identified as exceptions in the regulatory text of this AD. Using common terms that are the same as the heading of a particular section in the EASA Emergency AD does not mean that operators need comply only with that section. For example, where the AD requirement refers to “all required actions and compliance times,” compliance with this AD requirement is not limited to the section titled “Required Action(s) and Compliance Time(s)” in the EASA Emergency AD. Service information specified in EASA Emergency AD 2019-0151-E that is required for compliance with EASA Emergency AD 2019-0151-E is available on the internet at http://www.regulations.gov by searching for and locating Docket No. FAA-2019-0527.

FAA's Justification and Determination of the Effective Date

An unsafe condition exists that requires the immediate adoption of this AD without providing an opportunity for public comments prior to adoption. The FAA has found that the risk to the flying public justifies waiving notice and comment prior to adoption of this rule because failure to detect and correct cracks or damage in the MLG sliding tube axle could lead to MLG sliding tube axle fracture, possibly resulting in MLG collapse. Therefore, the FAA finds good cause that notice and opportunity for prior public comment are impracticable. In addition, for the reasons stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2019-0527; Product Identifier 2019-NM-112-AD” at the beginning of your comments. The FAA specifically invite comments on the overall regulatory, economic, environmental, and energy aspects of this AD. The FAA will consider all comments received by the closing date and may amend this AD based on those comments.

The FAA will post all comments received, without change, to http://www.regulations.gov, including any personal information you provide. The FAA will also post a report summarizing each substantive verbal contact received about this AD.

Costs of Compliance

The FAA estimates that this AD affects 1 airplane of U.S. registry. The FAA estimates the following costs to comply with this AD:

Estimated Costs for Required Actions *
Labor cost | Parts cost | Cost per product | Cost on U.S. operators
Up to 14 work-hours × $85 per hour = Up to $1,190 | $0 | $1,190 | Up to $1,190
* Table does not include estimated costs for reporting.

The FAA estimates that it takes about 1 work-hour per product to comply with the reporting requirement in this AD. The average labor rate is $85 per hour. Based on these figures, the FAA estimates the cost of reporting the inspection results on U.S. operators to be $85 per product.

The FAA has received no definitive data that would enable us to provide cost estimates for the optional actions and on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-14-06 Airbus SAS: Amendment 39-19684; Docket No. FAA-2019-0527; Product Identifier 2019-NM-112-AD.

(a) Effective Date

This AD becomes effective August 23, 2019.

(b) Affected ADs

None.

(c) Applicability

This AD applies to Airbus SAS Model A319-111, -112, -115, and -131 airplanes, and Airbus SAS Model A320-214 and -232 airplanes, certificated in any category, as identified in European Union Aviation Safety Agency (EASA) Emergency AD 2019-0151-E, dated June 28, 2019 (“EASA Emergency AD 2019-0151-E”).

(d) Subject

Air Transport Association (ATA) of America Code 32, Landing gear.

(e) Reason

This AD was prompted by a report of the fracture of a main landing gear (MLG) sliding tube axle, and an investigation that determined the cause to be an incorrect repair. The FAA is issuing this AD to address cracks and damage in the MLG sliding tube axle, which if not detected and corrected, could lead to MLG sliding tube axle fracture, possibly resulting in MLG collapse.

(f) Compliance

Comply with this AD within the compliance times specified, unless already done.

(g) Requirements

Except as specified in paragraph (h) of this AD: Comply with all required actions and compliance times specified in, and in accordance with, EASA Emergency AD 2019-0151-E.

(h) Exceptions to EASA Emergency AD 2019-0151-E

(1) For purposes of determining compliance with the requirements of this AD: Where EASA Emergency AD 2019-0151-E refers to its effective date, this AD requires using the effective date of this AD.

(2) The “Remarks” section of EASA Emergency AD 2019-0151-E does not apply to this AD.

(3) For purposes of determining compliance with the requirements of this AD: Where paragraph (2) of EASA Emergency AD 2019-0151-E refers to “28 June, 2019,” this AD requires using the effective date of this AD.

(4) Where paragraph (6) of EASA Emergency AD 2019-0151-E specifies to report the inspection results, this AD requires reporting the inspection results at the applicable time specified in paragraph (h)(4)(i) or (h)(4)(ii) of this AD. If operators have reported findings as part of obtaining any corrective actions approved by Airbus SAS's EASA Design Organization Approval (DOA), operators are not required to report those findings as specified in this paragraph.

(i) If the inspection was done on or after the effective date of this AD: Submit the report within 30 days after the inspection.

(ii) If the inspection was done before the effective date of this AD: Submit the report within 30 days after the effective date of this AD.

(i) Special Flight Permit

Special flight permits, as described in 14 CFR 21.197 and 21.199, are not allowed except as specified in Note 1 of EASA Emergency AD 2019-0151-E.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA DOA. If approved by the DOA, the approval must include the DOA-authorized signature.

(3) Required for Compliance (RC): For any service information referenced in EASA Emergency AD 2019-0151-E that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(k) Related Information

For more information about this AD, contact Sanjay Ralhan, Aerospace Engineer, International Section, Transport Standards Branch, FAA, 2200 South 216th St., Des Moines, WA 98198; telephone and fax 206-231-3223.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) Emergency AD 2019-0151-E, dated June 28, 2019.

(ii) [Reserved]

(3) For EASA Emergency AD 2019-0151-E, contact the EASA, Konrad-Adenauer-Ufer 3, 50668 Cologne, Germany; telephone +49 221 89990 6017; email ADs@easa.europa.eu; internet www.easa.europa.eu. You may find this EASA Emergency AD on the EASA website at https://ad.easa.europa.eu.

(4) You may view this EASA Emergency AD at the FAA, Transport Standards Branch, 2200 South 216th St., Des Moines, WA. For information on the availability of this material at the FAA, call 206-231-3195. EASA Emergency AD 2019-0151-E may be found in the AD docket on the internet at http://www.regulations.gov by searching for and locating Docket No. FAA-2019-0527.

(5) You may view this material that is incorporated by reference at the National Archives and Records Administration (NARA). For information on the availability of this material at NARA, call 202-741-6030, or go to: http://www.archives.gov/federal-register/cfr/ibr-locations.html.

Issued in Des Moines, Washington, on July 16, 2019.
Suzanne Masterson,
Acting Director, System Oversight Division, Aircraft Certification Service.

[FR Doc. 2019-16898 Filed 8-7-19; 8:45 am]

BILLING CODE 4910-13-P